DEPARTMENT OF HEALTH AND HUMAN SERVICES

Administration for Children and Families

Proposed Information Collection Activity; Placement and Transfer of Unaccompanied Children Into Office of Refugee Resettlement Care Provider Facilities (OMB #: 0970-0554)

AGENCY: Office of Refugee Resettlement, Administration for Children and Families, Department of Health and Human Services.

ACTION: Request for public comments.

SUMMARY: The Office of Refugee Resettlement (ORR), Administration for Children and Families (ACF), U.S. Department of Health and Human Services (HHS), is inviting public comments on revisions to an approved information collection. The request will allow the Unaccompanied Children (UC) Program to ensure that UC are placed in foster homes that meet their individual needs and ensure continuity of services.

DATES: Comments due within 60 days of publication. In compliance with the requirements of section 3506(c)(2)(A) of the Paperwork Reduction Act of 1995, ACF is soliciting public comment on the specific aspects of the information collection described above.

ADDRESSES: Copies of the proposed collection of information can be obtained and comments may be forwarded by emailing infocollection@acf.hhs.gov. Identify all requests by the title of the information collection.

SUPPLEMENTARY INFORMATION:

Description: ORR is proposing the following revisions to its Long-Term Foster Care Placement Memo (Form P-5):

• Change the title to “Community-Based Care Placement Memo” and update the term “long-term foster care” to “community-based care” throughout the memo. This term is more in line with terminology currently used in domestic child welfare programs and will be inclusive of ORR long-term foster care and transitional foster care programs.

• Increase the number of respondents and number of responses per respondent to include transitional foster care programs (in addition to long-term foster care programs).

• Update instructions on which fields are completed for initial placements and which are completed for transfers within the community-based care program.

• Reword some fields and instructions for clarity.

• Add field to capture the facility name for children placed in an out-of-network community-based care program.

• Separate fields that capture contact information for the foster family or group home into separate subsections and expand the fields to capture additional contact information (e.g., phone or email) in addition to name and address.

For information about all currently approved forms under this OMB number, see: https://www.reginfo.gov/public/do/PRAViewICR?ref_nbr=202210-0970-008.

Respondents: ORR grantee and contractor staff, UC, and other federal agencies.

Annual Burden Estimates

Note: These burden estimates include burden related to the revisions to Form P-5 described above and currently approved forms for which we are not proposing any changes.

Information collection title | Annual number of respondents | Annual number of responses per respondent | Average burden hours per response | Annual total burden hours
Placement Authorization (Form P-1) | 262 | 536 | 0.08 | 11,235
Authorization for Medical, Dental, and Mental Health Care (Form P-2) | 262 | 536 | 0.08 | 11,235
Notice of Placement in a Restrictive Setting (Form P-4/4s) | 15 | 114 | 0.33 | 564
Community-Based Care Placement Memo (Form P-5) | 110 | 337 | 0.25 | 9,268
UC Referral (Form P-7) | 25 | 4,909 | 1.00 | 122,725
Care Provider Checklist for Transfers to Influx Care Facilities (Form P-8) | 262 | 19 | 0.25 | 1,245
Medical Checklist for Transfers (Form P-9A) | 262 | 49 | 0.08 | 1,027
Medical Checklist for Influx Transfers (Form P-9B) | 262 | 96 | 0.17 | 4,276
Transfer Request (Form P-10A) | 262 | 67 | 0.42 | 7,373
Transfer Request (Form P-10A) | 275 | 67 | 0.33 | 6,080
Influx Transfer Request (Form P-10B) | 262 | 96 | 0.42 | 10,564
Transfer Summary and Tracking (Form P-11) | 262 | 67 | 0.17 | 2,984
Program Entity (Form P-12) | 262 | 12 | 0.50 | 1,572
UC Profile (Form P-13) | 262 | 468 | 0.75 | 91,962
ORR Transfer Notification—ORR Notification to Immigration and Customs Enforcement Chief Counsel of Transfer of UC and Request to Change Address/Venue (Form P-14) | 262 | 67 | 0.17 | 2,984
Family Group Entity (Form P-15) | 25 | 120 | 0.08 | 240
Influx Transfer Manifest (Form P-16) | 3 | 12 | 0.33 | 12
Influx Transfer Manual and Prescreen Criteria Review (Form P-17) | 262 | 56,213 | 0.50 | 7,363,903
Notice of Administrative Review (Form P-18) | 200 | 1 | 0.83 | 166

Estimated Annual Burden Hours Total: 7,649,415.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996).

Mary B. Jones,
ACF/OPRE Certifying Officer.

[FR Doc. 2022-27908 Filed 12-22-22; 8:45 am]

BILLING CODE 4184-45-P